DEPARTMENT OF HEALTH AND HUMAN SERVICES

Centers for Disease Control and Prevention

[30Day-13-0445]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

School Health Policies and Practices Study (formerly titled School Health Policies and Programs Study, OMB No. 0920-0445, exp. 9/30/2012)—Reinstatement with Changes—Division of Adolescent and School Health (DASH), National Center for HIV/AIDS, Viral Hepatitis, STD, and TB Prevention (NCHHSTP), Centers for Disease Control and Prevention, (CDC).

Background and Brief Description

CDC has previously examined the role schools play in addressing health risk behaviors through the School Health Policies and Programs Study (SHPPS, OMB NO. 0920-0445), a series of data collections conducted at the state, district, school, and classroom levels in 1994 (OMB No. 0920-0340, exp. 1/31/1995), 2000 (OMB No. 0920-0445, exp. 10/31/2002), 2006 (OMB No. 0920-0445, exp. 11/30/2008), and 2012 (OMB No. 0920-0445, exp. 9/30/2012).

CDC plans to reinstate data collection in 2014 and 2016 with changes. SHPPS will assess the characteristics of eight components of school health programs at the elementary, middle, and high school levels: health education, physical education, health services, mental health and social services, nutrition services, healthy and safe school environment, faculty and staff health promotion, and family and community involvement. This data collection will take place at the school- and classroom-levels in 2014 and at the district level in 2016. The school- and classroom-level data collection proposed for 2014 was approved for 2012 but was not conducted because of insufficient funds.

Sixteen questionnaires will be used: seven at the district level, seven at the school level and two at the classroom level. The school- and classroom-level questionnaires will be identical to those approved for data collection in 2012. The district-level questionnaires will include minor modifications to the 2012 questionnaires. For example, question wording will be revised to improve clarity. The school-level data collection also will include vending machine observations, which will yield the only nationally representative dataset of snack and beverage offerings available to students through school vending machines. These observations were a part of the 2012 study protocol but were not conducted because of insufficient funds.

The SHPPS data collection will have significant implications for policy and program development for school health programs nationwide. The results will be used by Federal agencies, state and local education and health agencies, the private sector, and others to support school health programs; monitor progress toward achieving health and education goals and objectives; develop educational programs, demonstration efforts, and professional education/training; and initiate other relevant research initiatives to contribute to the reduction of health risk behaviors among our nation's youth. SHPPS data also will be used to provide measures for 14 Healthy People 2020 national health objectives. No other national source of data exists for these objectives. The data also will have significant implications for policy and program development for school health programs nationwide. The combined total burden hours estimated for the 2014 and 2016 SHPPS and associated support activities are 9,722.

There are no costs to respondents other than their time.

Estimated Annualized Burden Hours
Type of respondent | Form name | Number of respondents | Number of responses per respondent | Average burden per response (in hours)
State Officials | State Recruitment Script (for 2014 study) | 42 | 1 | 30/60
| State Recruitment Script (for 2016 study) | 44 | 1 | 30/60
District Officials | District Recruitment Script (for 2014 study) | 320 | 1 | 30/60
| District Recruitment Script (for 2016 study) | 902 | 1 | 60/60
| District Health Education | 685 | 1 | 30/60
| District Physical Education and Activity | 685 | 1 | 40/60
| District Health Services | 685 | 1 | 40/60
| District Nutrition Services | 685 | 1 | 30/60
| District Healthy and Safe School Environment | 685 | 1 | 60/60
| District Mental Health and Social Services | 685 | 1 | 30/60
| District Faculty and Staff Health Promotion | 685 | 1 | 20/60
School Officials | School Recruitment Script | 821 | 1 | 60/60
| School Health Education | 640 | 1 | 20/60
| School Physical Education and Activity | 640 | 1 | 40/60
| School Health Services | 640 | 1 | 50/60
| School Nutrition Services | 640 | 1 | 40/60
| School Healthy and Safe School Environment | 640 | 1 | 75/60
| School Mental Health and Social Services | 640 | 1 | 30/60
| School Faculty and Staff Health Promotion | 640 | 1 | 20/60
Classroom teachers | Classroom Health Education | 1,229 | 1 | 50/60
| Classroom Physical Education and Activity | 1,229 | 1 | 40/60

Ron A. Otten,
Director, Office of Scientific Integrity, Office of the Associate Director for Science, Office of the Director, Centers for Disease Control and Prevention.

[FR Doc. 2013-13525 Filed 6-6-13; 8:45 am]

BILLING CODE 4163-18-P